FEDERAL MARITIME COMMISSION

Agency Information Collection Activities: Submission for OMB Review; Comment Request

AGENCY: Federal Maritime Commission.

ACTION: Notice and request for comments.

SUMMARY: The Federal Maritime Commission (Commission) is giving public notice that the agency has submitted to the Office of Management and Budget (OMB) for approval the continuing information collection (extension with no changes) described in this notice. The public is invited to comment on the proposed information collection pursuant to the Paperwork Reduction Act of 1995.

DATES: Written comments must be submitted at the addresses below on or before September 24, 2021.

ADDRESSES: Comments should be addressed to:

Office of Information and Regulatory Affairs, Office of Management and Budget, Attention: Shannon Joyce, Desk Officer for Federal Maritime Commission, OIRA_Submission@OMB.EOP.GOV, Fax (202) 395-5167.

and to:

Lucille L. Marvin, Managing Director, Office of the Managing Director, Federal Maritime Commission, omd@fmc.gov.

FOR FURTHER INFORMATION CONTACT: Copies of the information collections and instructions, or copies of any comments received, may be obtained by contacting phone at (202) 523-5800 or by email at omd@fmc.gov.

SUPPLEMENTARY INFORMATION:

Request for Comments

Pursuant to the Paperwork Reduction Act of 1995 (Pub. L. 104-13), the Commission invites the general public and other Federal agencies to comment on proposed information collections. On April 29, 2021, the Commission published a notice and request for comments in the Federal Register (86 FR 22666) regarding the agency's request for continued approval from OMB for information collections as required by the Paperwork Reduction Act of 1995. The Commission received no comments on the request for extension of OMB clearance. The Commission has submitted the described information collection to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: 46 CFR part 565—Controlled Carriers.

OMB Approval Number: 3072-0060 (Expires September 30, 2021).

Abstract: 46 U.S.C. 40701-40706 requires that the Commission monitor the practices of controlled carriers to ensure that they do not maintain rates or charges in their tariffs and service contracts that are below a level that is just and reasonable; nor establish, maintain or enforce unjust or unreasonable classifications, rules or regulations in those tariffs or service contracts which result or are likely to result in the carriage or handling of cargo at rates or charges that are below a just and reasonable level. 46 CFR part 565 establishes the method by which the Commission determines whether a particular ocean common carrier is a controlled carrier subject to 46 U.S.C. 40701-40706 . When a government acquires a controlling interest in an ocean common carrier, or when a controlled carrier newly enters a United States trade, the Commission's rules require that such a carrier notify the Commission of these events.

Current Actions: There are no changes to this information collection, and it is being submitted for extension purposes only.

Type of Review: Extension.

Needs and Uses: The Commission uses these notifications in order to effectively discharge its statutory duty to determine whether a particular ocean common carrier is a controlled carrier and therefore subject to the requirements of 46 U.S.C. 40701-40706.

Frequency: The submission of notifications from carriers is not assigned to a specific time frame by the Commission; they are submitted as circumstances warrant.

Type of Respondents: Ocean common carriers when a majority portion of the carrier becomes owned or controlled by a government, or when a controlled carrier newly begins operation in any United States trade.

Number of Annual Respondents: Based on filings over the past three years, the Commission estimates one respondent annually.

Estimated Time per Response: The estimated time for each notification is 2 hours.

Total Annual Burden: For purposes of calculating total annual burden, the Commission assumes one response annually. The Commission thus estimates the total annual burden to be 2 hours (1 response × 2 hours per response).

Rachel Dickon,
Secretary.

[FR Doc. 2021-18304 Filed 8-24-21; 8:45 am]

BILLING CODE 6730-02-P